SECURITIES AND EXCHANGE COMMISSION

[Release No. 34-50187; File No. SR-Amex-2004-58]

Self-Regulatory Organizations; Notice of Filing and Immediate Effectiveness of Proposed Rule Change by the American Stock Exchange LLC To Reduce ETF Transaction Fees for Specialist and Registered Traders and the Cap on ETF Transaction Charge for Specialists

August 12, 2004.

Correction

In notice document 04-18907 beginning on page 51339 in the issue of Wednesday, August 18, 2004, make the following correction:

On page 51340, in the third column, in the fourth full paragraph, in the last line, the date “September 7, 2004” should read “September 8, 2004”.

[FR Doc. C4-18907 Filed 8-30-04; 8:45 am]

BILLING CODE 1505-01-D